DEPARTMENT OF HEALTH AND HUMAN SERVICES

Office of the Secretary

Office of the Assistant Secretary for Health, Statement of Organization, Functions, and Delegation of Authority

Part A. Office of the Secretary, Statement of Organization, Functions, and Delegation of Authority for the U.S. Department of Health and Human Services is being amended at Chapter AC, Office of the Assistant Secretary for Health (OASH), as last amended at 60 FR 56605-06, dated November 9, 1995; 60 FR 8410, dated February 14, 1995; and most recently at 75 FR 53304-05, dated August 31, 2010, as follows:

1. Under Chapter AC, delete Paragraph H, “Office of HIV/AIDS Policy (ACJ)”, in its entirety and replace with the following:

H. Office of HIV/AIDS and Infectious Disease Policy (ACJ)

The Office of HIV/AIDS and Infectious Disease Policy (OHAIDP) is under the direction of the Deputy Assistant Secretary for Health, Infectious Diseases, who serves as the Director of the Office of HIV/AIDS and Infectious Disease Policy, and as the principal advisor to the Assistant Secretary for Health (ASH) and the Secretary on health policy and program issues related to HIV disease and infectious diseases of public health significance. These issues cut across Health and Human Services (HHS) components which provide research, services, prevention, treatment, and education and information dissemination to susceptible populations.

OHAIDP is responsible for coordinating, integrating, and directing the Department's policies, programs, and activities related to HIV/AIDS, viral hepatitis, other infectious diseases of public health significance, and blood safety and availability. The Office: (1) Facilitates and/or coordinates policy planning processes related to infectious diseases, including viral hepatitis and HIV/AIDS, across HHS and monitors progress toward achieving established goals; (2) Advises on issues related to blood and blood products; (3) Monitors the implementation of the National HIV/AIDS Strategy across HHS; (4) Identifies critical HIV/AIDS policy issues, including the inter-and intra-agency coordination need, and advises on how best to address/resolve these issues; (5) Serves as HHS liaison with the Office of the National AIDS Policy Coordinator, Executive Office of the President; (6) Assists in the preparation of responses to inquiries regarding programs and policies intended to promote effective prevention and advancement of research for HIV/AIDS, viral hepatitis, and other infectious diseases of public health significance; (7) Provides liaison with other Federal organizations involved in addressing HIV/AIDS, viral hepatitis and/or other infectious diseases of public health significance; (8) Provides analytic and administrative support to the Advisory Committee on Blood Safety and Availability (ACBSA), the Presidential Advisory Council on HIV/AIDS (PACHA), cross-Departmental, coordinating groups, and other subsidiary or independent task forces, work groups, or subgroups; (9) Provides guidance on the cooperative dissemination and exchange of scientific, prevention, educational information, and clinical guidelines between public health interest groups, health professional, and private sector organizations; (10) Guides, supports, and promotes methods of dissemination and exchange of information to and among the public; (11) Reviews and makes recommendations on OPDIVs budget requests related to departmental research, prevention, services, training, information, and infrastructure priorities as incorporated in planning documents or budget proposals.

II. Delegations of Authority. Pending further re-delegation, directives or orders made by the Secretary, the Assistant Secretary for Health, or the Deputy Assistant Secretary for Health, Infectious Diseases, all delegations and re-delegations of authority made to officials and employees of the affected organizational component will continue in them pending further re-delegations, provided they are consistent with this reorganization.

Dated: March 6, 2012.
E.J. Holland, Jr.,
Assistant Secretary for Administration.

[FR Doc. 2012-6466 Filed 3-15-12; 8:45 am]

BILLING CODE 4150-28-P